DEPARTMENT OF ENERGY

Federal Energy Regulatory Commission

[Docket No. RP00-458-001]

Clear Creek Storage Company, L.L.C.; Notice of Compliance Filing

August 17, 2001.

Take notice that on August 13, 2001, Clear Creek Storage Company, L.L.C., (Clear Creek) tenders for filing as part of its FERC Gas Tariff, Original Volume No. 1, the following tariff sheets, with an effective date of September 1, 2001:

Original Sheet Nos. 40A, 46A and 76A

First Revised Sheet Nos. 46, 52 and 75

Second Revised Sheet Nos. 40, 43 and 76

Clear Creek states that this filing is being submitted in compliance with and as directed by the Commission's July 13, 2001, Order on Compliance with Order No. 637.

Clear Creek states further that a copy of this filing has been served upon its customers, the Public Service Commission of Wyoming and all parties on the official service list on file with the Secretary in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-21243 Filed 8-22-01; 8:45 am]

BILLING CODE 6717-01-P